DEPARTMENT OF TRANSPORTATION

Federal Motor Carrier Safety Administration

[Docket No. FMCSA-2021-0154]

Agency Information Collection Activities; Renewal of a Currently-Approved Information Collection Request: Annual Report of Class I and Class II For-Hire Motor Carriers

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval and invites public comment. FMCSA requests approval to renew the previously approved ICR now titled, “Annual Report of Class I and Class II For-Hire Motor Carriers,” OMB Control No. 2126-0032. This ICR is necessary to comply with FMCSA's financial and operating statistics requirements at chapter III of title 49 CFR part 369 titled, “Reports of Motor Carriers.”

DATES: Please send your comments by December 27, 2021. OMB must receive your comments by this date in order to act quickly on the ICR.

ADDRESSES: You may submit comments identified by Federal Docket Management System (FDMS) Docket Number FMCSA-2021-0154 using any of the following methods:

• Federal eRulemaking Portal: http://www.regulations.gov. Follow the online instructions for submitting comments.

• Fax: 1-202-493-2251.

• Mail: Docket Operations; U.S. Department of Transportation, 1200 New Jersey Avenue SE, West Building, Ground Floor, Room W12-140, Washington, DC 20590-0001.

• Hand Delivery or Courier: U.S. Department of Transportation, 1200 New Jersey Avenue SE, West Building, Ground Floor, Room W12-140, Washington, DC 20590-0001 between 9 a.m. and 5 p.m. E.T., Monday through Friday, except Federal holidays.

Instructions: All submissions must include the Agency name and docket number. For detailed instructions on submitting comments, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Public Participation: The Federal eRulemaking Portal is available 24 hours each day, 365 days each year. You can obtain electronic submission and retrieval help and guidelines under the “help” section of the Federal eRulemaking Portal website. If you want us to notify you that we received your comments, please include a self-addressed, stamped envelope or postcard, or print the acknowledgement page that appears after submitting comments online. Comments received after the comment closing date will be included in the docket and will be considered to the extent practicable.

FOR FURTHER INFORMATION CONTACT: Mr. Jeff Secrist, Office of Registration and Safety Information, Department of Transportation, Federal Motor Carrier Safety Administration, West Building 6th Floor, 1200 New Jersey Avenue SE, Washington, DC 20590-0001. Telephone: 202-385-2367; email jeff.secrist@dot.gov.

SUPPLEMENTARY INFORMATION: Background: Section 14123 of title 49 of the United States Code (U.S.C.) requires certain for-hire motor carriers of property, passengers, and household goods to file annual financial reports. The annual reporting program was implemented on December 24, 1938 (3 FR 3158), and it was subsequently transferred from the Interstate Commerce Commission (ICC) to the U.S. Department of Transportation's (DOT) Bureau of Transportation Statistics (BTS) on January 1, 1996. The Secretary of Transportation delegated to BTS the responsibility for the program on December 17, 1996 (61 FR 68162). Responsibility for collection of the reports was transferred from BTS to FMCSA on August 17, 2004 (69 FR 51009), and the regulations were redesignated as 49 CFR part 369 on August 10, 2006 (71 FR 45740). FMCSA collects carriers' annual reports and furnishes copies of the reports when requested under the Freedom of Information Act (FOIA). Annual financial reports are filed on Form M (Class I and II for-hire property carriers, including household goods carriers) and Form MP-1 (Class I for-hire passenger carriers). For-hire motor carriers (including interstate and intrastate) subject to the Federal Motor Carrier Safety Regulations are classified on the basis of their gross carrier operating revenues.¹

¹ For purposes of the Financial and Operating Statistics (F&OS) program, carriers are classified into the following three groups: (1) Class I carriers are those having annual carrier operating revenues (including interstate and intrastate) of $10 million or more after applying the revenue deflator formula as set forth in Note A of 49 CFR 369.2; and (2) Class II carriers are those having annual carrier operating revenues (including interstate and intrastate) of at least $3 million, but less than $10 million after applying the revenue deflator formula as set forth in 49 CFR 369.2.

The data and information collected is publicly available through FOIA requests. FMCSA has created electronic forms that may be prepared, signed electronically, and submitted to FMCSA via https://ask.fmcsa.dot.gov/app/ask/. FMCSA revised Form M to ensure that it solicits only that information required by statute, and also added an option to allow filers to upload their own document in lieu of filling out either Form M or MP-1 (as applicable), so long as the document includes all of the information listed on the form.

Title: Annual Report of Class I and Class II For-Hire Motor Carriers.

OMB Control Number: 2126-0032.

Type of Request: Renewal of a currently-approved information collection.

Respondents: Class I and Class II For-Hire Motor Carriers of Property and Class I For-Hire Motor Carriers of Passengers.

Estimated Number of Respondents: 102 total (34 per year).

Estimated Time per Response: 9 hours for Form M and 0.3 hours for Form MP-1.

Expiration Date: May 31, 2022.

Frequency of Response: Annually.

Estimated Total Annual Burden: 306 hours [306 hours (Form M) + 0 hours (Form MP-1)].

Estimated annual respondents for Form M decreased from 43 in the previously approved ICR to 34 in the current ICR. Estimated annual burden hours for Form M decreased by 78 hours [306 proposed hours−384 currently approved hours = −78 hours]. Estimated annual respondents for Form MP-1 stayed the same. The previously approved ICR had 0 annual hours. The current ICR has 0 annual hours. This estimate is based on the number of Form M and Form MP-1 submissions received by the Agency between 2018 and 2020, which results in these estimates of annual respondents/responses for the upcoming information collection period.

Labor costs to industry have decreased by $2,276, annually [$14,494 in proposed costs −$16,770 currently approved costs = −$2,276]. This is due to the decreased estimates of annual respondents/responses. Other annual costs to respondents (i.e., associated with mailing completed forms to FMCSA) have decreased by $9 [($34 in proposed mailing costs for Form M + $0 in proposed mailing costs for Form MP-1)−($43 in previously approved mailing costs for Form M + $0 in previously approved mailing costs for Form MP-1) = $−9]. This change is also due to the decreased estimates of annual respondents/responses.

For the Federal Government, annual costs have increased by $6 [$79 in proposed costs −$73 in previously approved costs = $6]. This increase is due to a revision in the federal government employee load rate, which was revised to be consistent with other FMCSA ICRs.

Public Comments Invited: You are asked to comment on any aspect of this information collection, including: (1) Whether the proposed collection is necessary for FMCSA to perform its functions; (2) the accuracy of the estimated burden; (3) ways for the FMCSA to enhance the quality, usefulness, and clarity of the collected information; and (4) ways that the burden could be minimized without reducing the quality of the collected information.

Issued under the authority delegated in 49 CFR 1.87.
Thomas P. Keane,
Associate Administrator, Office of Research and Registration.

[FR Doc. 2021-23378 Filed 10-26-21; 8:45 am]

BILLING CODE 4910-EX-P